FEDERAL RETIREMENT THRIFT INVESTMENT BOARD

Sunshine Act; Notice of Meeting

TIME AND DATE: 9:00 a.m. (Eastern Time) July 27, 2015.

PLACE: 10th Floor Board Meeting Room, 77 K Street NE., Washington, DC 20002.

STATUS: Parts will be open to the public and parts closed to the public.

MATTERS TO BE CONSIDERED:

Open to the Public

1. Approval of the Minutes of the June 25, 2015 Board Member Meeting

2. Monthly Reports

(a) Monthly Participant Activity Report

(b) Legislative Report

3. Quarterly Reports

(a) Investment Policy Report

(b) Vendor Financials

(c) Audit Status

(d) Budget Review

(e) Project Activity Report

4. Withdrawal Options

5. Mutual Fund Window Project and Policy

6. Investment Consultant Memo

7. Impact of Proposed Changes to G Fund

8. Investment Advice Discussion

Closed to the Public

9. Litigation

10. Security

11. Personnel

CONTACT PERSON FOR MORE INFORMATION: Kimberly Weaver, Director, Office of External Affairs, (202) 942-1640.

Dated: July 16, 2015.
James Petrick,
General Counsel, Federal Retirement Thrift Investment Board.

[FR Doc. 2015-17870 Filed 7-16-15; 4:15 pm]

BILLING CODE 6760-01-P